DEPARTMENT OF ENERGY

Federal Energy Regulatory Commission

[Project No. 2535-130]

Dominion Energy South Carolina, Inc.; Notice Dismissing Request for Rehearing

On October 27, 2023, Dominion Energy South Carolina, Inc. (Dominion Energy), filed a final license application to relicense its Stevens Creek Hydroelectric Project No. 2535. On November 8, 2023, Commission staff issued a notice of application and solicited additional study requests. On December 11, 2023, Augusta-Richmond County, Georgia, filed additional study requests with the Commission. On November 25, 2024, Commission staff issued a letter responding to the additional study requests and explained that no further studies were needed. On December 26, 2024, Augusta-Richmond County filed a request for rehearing of Commission staff's November 25, 2024 letter.

Rule 713(b) of the Commission's Rules of Practice and Procedure permits requests for rehearing “of any final decision or other final order in a proceeding.” ¹ An order is final, and thus subject to rehearing, only when it imposes an obligation, denies a right, or fixes some legal relationship as a consummation of the administrative process.² The November 24, 2024 Commission staff letter is not a final Commission decision or order on the final license application, which remains pending before the Commission, nor imposes an obligation on the license applicant or any other party.

¹ 18 CFR 385.713(b) (2024); see also 15 U.S.C. 717r(a) (parties “aggrieved by an order issued by the Commission in a proceeding . . . may apply for a rehearing within thirty days after the issuance of such order”).

² Reliable Automatic Sprinkler Co. v. Consumer Prod. Safety Comm'n, 324 F.3d 726, 731 (D.C. Cir. 2003) (holding that “final agency action `mark[s] the consummation of the agency's decision-making process' and is `one by which rights or obligations have been determined, or from which legal consequences will flow' ”) (quoting Bennett v. Spear, 520 U.S. 154, 178 (1997)).

When the Commission, or its delegate, issues a final order regarding Dominion Energy's license application, Augusta-Richmond County may, at that time, file a request for rehearing. Thus, Commission staff's November 25, 2024 letter is interlocutory and does not fall within the scope of Rule 713. Accordingly, the request for rehearing is dismissed.³

³ See, e.g., Exelon Gen Co., 131 FERC ¶ 61,166, at PP 15-16 (2010) (denying rehearing of a study plan determination letter, in part, because letter was a procedural decision by Commission staff); Pub. Util. Dist. No. 1 of Douglas Cnty., Wash., 122 FERC ¶ 61,032, at P 7 & n.9 (2008) (dismissing request for rehearing of denial of study request); Duke Power, 117 FERC ¶ 61,303, at PP 5-7 (2006) (affirming dismissal as interlocutory of request for rehearing of environmental assessment); Duke Energy Corp., 111 FERC ¶ 61,489, at PP 12-14 (2005) (denying request for rehearing of Secretary's notice dismissing request for rehearing of staff decision not to extend environmental scoping process).

This notice constitutes final agency action. Requests for rehearing by the Commission of this notice must be filed within 30 days of the date of issuance of this notice, as provided in section 313(a) of the Federal Power Act, 16 U.S.C. 825l(a), and section 385.713 of the Commission's regulations, 18 CFR 385.713 (2024).

Dated: January 14, 2025.
Debbie-Anne A. Reese,
Secretary.

[FR Doc. 2025-01430 Filed 1-21-25; 8:45 am]

BILLING CODE 6717-01-P